DEPARTMENT OF JUSTICE

Antitrust Division

Notice Pursuant to the National Cooperative Research and Production Act of 1993—Digital Manufacturing Design Innovation Institute

Notice is hereby given that, on June 30, 2021, pursuant to Section 6(a) of the National Cooperative Research and Production Act of 1993, 15 U.S.C. 4301 et seq. (“the Act”), Digital Manufacturing Design Innovation Institute (“DMDII”) has filed written notifications simultaneously with the Attorney General and the Federal Trade Commission disclosing changes in its membership. The notifications were filed for the purpose of extending the Act's provisions limiting the recovery of antitrust plaintiffs to actual damages under specified circumstances. Specifically, Engora, Cambridge, MA; viax.io, Hoboken, NJ; Wulco, Inc., Cincinnati, OH; Numorpho Cybernetic System, Chicago, IL; ZVerse, Columbia, SC; Five Forks, Chicago, IL; North Carolina A&T State University, Greensboro, NC; Coupa, San Mateo, CA; Armis, Palo Alto, CA; Tethr_It, Austin, TX; Fairmount Tech, Witchita, KS; and GenMet, Mequon, WI, have been added as parties to this venture.

Also, Future Way Designs, Hamilton, OH; PUNDITAS LLC, Wakefield, MA; Bethel New Life, Chicago, IL; SantosHuman Inc., Coralville, IA; Wrightwood Precision Products, Chicago, IL; Scytec, Greenwood Village, CO; Connected Global Factory (SearchLite), Ann Arbor, MI; Tru-Fab Technology, Eastlake, OH; Transco Products, Chicago, IL; United Electric Corporation, Canonsburg, PA; SPIRE Manufacturing Solutions, Colorado Springs, CO; SimInsights, Lake Forest, CA; Southwest Research Institute (SwRI), San Antonio, TX; Visible Assets, Stratham, NH; Fraight Inc., Chicago, IL; Integris Group LLC, East Peoria, IL; Industrial Network Systems (INS), Arlington Heights, IL; Design Mill, Dubuque, IA; Electric Imp, Los Altos, CA; Factory Physics, Bryan, TX; Orion Quality Software, Cincinnati, OH; iBASEt, Foothill Ranch, CA; MFG.com, Marietta, GA; Halock Security Labs, Schaumburg, IL; Galois, Portland, OR; CreateASoft, Aurora, IL; Godwin Global, Charlotte, NC; L & J Omnico AGV, Clinton Township, MI; OptiPro Systems, Ontario, NY; Manufacturing Laboratories, Las Vegas, NV; HL Precision Manufacturing, Inc., Champaign, IL; Materials Data Management, Inc., Indianapolis, IN; Harbec, Inc., Ontario, NY; Applied Optimization Inc., Dayton, OH; Upskill (formerly APX Labs, Inc.), Herndon, VA; 3rd Dimension, Indianapolis, IN; Arysen Corporation, Independence, OH; Applied Automation Technologies, Rochester Hills, MI; Accu Solve Group, Getzville, NY; and IMA North America, Leominster, MA, have withdrawn as parties to this venture.

No other changes have been made in either the membership or planned activity of the group research project. Membership in this group research project remains open, and DMDII intends to file additional written notifications disclosing all changes in membership.

On January 5, 2016, DMDII filed its original notification pursuant to Section 6(a) of the Act. The Department of Justice published a notice in the Federal Register pursuant to Section 6(b) of the Act on March 9, 2016 (81 FR 12525).

The last notification was filed with the Department on March 31, 2021. A notice was published in the Federal Register pursuant to Section 6(b) of the Act on April 20, 2021 (86 FR 20521).

Suzanne Morris,
Chief, Premerger and Division Statistics, Antitrust Division.

[FR Doc. 2021-18011 Filed 8-20-21; 8:45 am]

BILLING CODE P